NUCLEAR REGULATORY COMMISSION

10 CFR Parts 50 and 52

[NRC-2008-0122]

RIN 3150-AI10

Enhancements to Emergency Preparedness Regulations

AGENCY: Nuclear Regulatory Commission.

ACTION: Proposed rule: Extension of comment period.

SUMMARY: On May 18, 2009 (74 FR 23254), the Nuclear Regulatory Commission (NRC) published for public comment a proposed rule that would amend certain emergency preparedness (EP) requirements in its regulations that govern domestic licensing of production and utilization facilities. A conforming provision would also be added in the regulations that govern licenses, certifications, and approvals for new nuclear power plants. The proposed amendments would codify certain voluntary protective measures contained in NRC Bulletin 2005-02, “Emergency Preparedness and Response Actions for Security-Based Events,” and other generically applicable requirements similar to those previously imposed by Commission orders. They would also amend other licensee emergency plan requirements based on a comprehensive review of the NRC's EP regulations and guidance. The proposed requirements would enhance the ability of licensees in preparing to take and taking certain emergency preparedness and protective measures in the event of a radiological emergency; address, in part, security issues identified after the terrorist events of September 11, 2001; clarify regulations to effect consistent emergency plan implementation among licensees; and modify certain EP requirements to be more effective and efficient. Also, the NRC published for public comment three guidance documents related to the EP proposed rule: DG-1237, “Guidance on Making Changes to Emergency Response Plans for Nuclear Power Reactors” (74 FR 23220); “NUREG/CR-XXXX, Criteria for Development of Evacuation Time Estimate Studies” (74 FR 23219); and Interim Staff Guidance (ISG) NSIR/DPR-ISG-01, “Emergency Planning for Nuclear Power Plants” (74 FR 23221). A 75-day comment period was provided for the proposed rule and guidance documents, set to expire on August 3, 2009. Comments specific to the information collection aspects of the proposed rule were due on June 17, 2009.

The proposed rule and related guidance documents comment submittal deadline is extended from the original August 3, 2009, deadline to October 19, 2009, and the information collections analysis deadline is extended from the original June 17, 2009, deadline to August 17, 2009.

DATES: The comment period for the proposed rule and related guidance documents has been extended and now expires on October 19, 2009. The comment period for the information collection aspects of this proposed rulemaking has been extended by 60 days and now expires on August 17, 2009. Comments received after this date will be considered if it is practical to do so, but the Commission is able to ensure consideration only for comments received before this date.

ADDRESSES: You may submit comments by any one of the following methods. Comments submitted in writing or in electronic form will be made available for public inspection. Because your comments will not be edited to remove any identifying or contact information, the NRC cautions you against including any information in your submission that you do not want to be publicly disclosed.

Federal e-Rulemaking Portal: Go to http://www.regulations.gov and search for documents filed under Docket ID [NRC-2008-0122]. Address questions about NRC dockets to Carol Gallagher, telephone (301) 492-3668; e-mail Carol.Gallagher@nrc.gov.

Mail comments to: Secretary, U.S. Nuclear Regulatory Commission, Washington, DC 20555-0001, Attn: Rulemakings and Adjudications Staff.

E-mail comments to: Rulemaking.Comments@nrc.gov. If you do not receive a reply e-mail confirming that we have received your comments, contact us directly at (301) 415-1677.

Fax comments to: Secretary, U.S. Nuclear Regulatory Commission at (301) 492-3446.

You can access publicly available documents related to this document using the following methods:

NRC's Public Document Room (PDR): The public may examine and have copied for a fee publicly available documents at the NRC's PDR, Public File Area O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, or (301) 415-4737, or by e-mail to PDR.Resource@nrc.gov.

FOR FURTHER INFORMATION CONTACT: Lauren Quiñones, Office of Nuclear Reactor Regulation, U.S. Nuclear Regulatory Commission, Washington, DC 20555-0001, telephone (301) 415-2007, e-mail Lauren.Quinones@nrc.gov; or Don Tailleart, Office of Nuclear Security and Incident Response, U.S. Nuclear Regulatory Commission, Washington, DC 20555-0001, telephone (301) 415-2966, e-mail Don.Tailleart@nrc.gov.

SUPPLEMENTARY INFORMATION: During the period of May 18-May 29, 2009, the NRC received seven letters from nuclear power industry representatives and various state agencies requesting that the comment period for the proposed rulemaking be extended. Five of the requests asked for an extension of 75 days for a total of 150 days, and two of the requests asked for an extension of 105 days for a total of 180 days. Nuclear power industry representatives and state agencies stated various reasons to support their request (listed below):

(1) This is a substantive amendment to the NRC EP requirements;

(2) The proposed amendments and guidance documents cover many significant legal, regulatory, and policy issues that will require extensive review;

(3) Additional time is needed to discuss possible consequences of proposed changes with affected State and/or local jurisdictions; and

(4) Extending the public comment period will allow for a more comprehensive review and result in more meaningful comments.

In view of the NRC's desire to receive high quality comments from external stakeholders, and recognizing the quantity of information to be analyzed and the coordination efforts needed by and among stakeholders, the comment period for the proposed rulemaking and related guidance documents will be extended for an additional 75 days. The comment period for the information collection aspects of this proposed rulemaking will be extended by 60 days. Based on feedback from stakeholders, the NRC believes that a 75-day extension will allow sufficient time for all stakeholders to develop and provide meaningful comments on the proposed rule and draft guidance.

The proposed rule and related guidance documents comment submittal deadline is extended from the original August 3, 2009, deadline to October 19, 2009, and the information collections analysis deadline is extended from the original June 17, 2009, deadline to August 17, 2009.

Dated at Rockville, Maryland, this 5th day of June 2009.
For the Nuclear Regulatory Commission.
Annette L. Vietti-Cook,
Secretary of the Commission.

[FR Doc. E9-13713 Filed 6-10-09; 8:45 am]

BILLING CODE 7590-01-P